DEPARTMENT OF COMMERCE

Foreign-Trade Zones Board

[Docket 84-2011]

Foreign-Trade Zone 226—Merced, Madera, Fresno and Tulare Counties, CA; Application for Reorganization Under Alternative Site Framework

An application has been submitted to the Foreign-Trade Zones (FTZ) Board (the Board) by the County of Merced, California, grantee of FTZ 226, requesting authority to reorganize the zone under the alternative site framework (ASF) adopted by the Board (74 FR 1170, 01/12/2009 (correction 74 FR 3987, 01/22/2009); 75 FR 71069-71070, 11/22/2010). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on December 23, 2011.

FTZ 226 was approved by the Board on December 22, 1997 (Board Order 946, 63 FR 778-779, 01/07/1998) and expanded on May 14, 2003 (Board Order 1276, 68 FR 27985, 05/22/2003).

The current zone project includes the following sites: Site 1 (791 acres)—Castle Airport/Morimoto Industrial Park, 2507 Heritage Drive, Atwater (Merced County); Site 2 (242 acres)—within the MidState 99 Distribution Center, Visalia (Tulare County) (includes 65 acres located at 2525 North Plaza Drive approved on a temporary basis until 12/31/2013); Site 3 (191 acres)—Mid Cal Business Park, Highway 33, Gustine (Merced County); Site 4 (101 acres)—within the Applegate Business Park, Highway 33 and Air Park Road, Atwater (Merced County); Site 6 (87 acres)—City of Madera Airport Industrial Park/State Center Commerce Park, Falcon Drive, Madera (Madera County); Site 7 (10 acres)—City of Madera Industrial Park, 2500 West Industrial Avenue, Madera (Madera County); Site 8 (27.56 acres)—Airways East Business Park, East Shields Avenue and North Business Park Avenue, Fresno (Fresno County); Site 9 (225 acres)—Central Valley Business Park, East North Avenue, Fresno (Fresno County); Site 10 (492 acres)—Fresno Airport Industrial Park, East Airways Boulevard and East Anderson and East Clinton Avenues, Fresno, and adjacent City of Clovis Industrial Park located at West Dakota Avenue & West Pontiac Way, Clovis (Fresno County); Site 11 (35 acres)—Reedley Industrial Park II, 1301 South Buttonwillow Avenue, Reedley (Fresno County); Site 12 (128 acres)—City of Selma Industrial Park, East Nebraska Avenue, Selma (Fresno County); and, Site 13 (15 acres)—810 East Continental Avenue, Tulare, (Tulare County).

The grantee's proposed service area under the ASF would be portions of Fresno, Kings, Madera, Mariposa, Merced, Stanislaus and Tulare Counties, California, as described in the application. If approved, the grantee would be able to serve sites throughout the service area based on companies' needs for FTZ designation. The proposed service area is both within and adjacent to the Fresno U.S. Customs and Border Protection port of entry.

The applicant is requesting authority to reorganize its existing zone project to include Sites 1, 2 and 9 through 11 as “magnet” sites. The ASF allows for the possible exemption of one magnet site from the “sunset” time limits that generally apply to sites under the ASF, and the applicant proposes that Site 1 be so exempted. The applicant is also requesting authority to include existing Site 8 as a usage-driven site. Additionally, the applicant is requesting authority to reduce acreage at Site 1 and remove Sites 3, 4, 6, 7, 12 and 13 from the zone project due to changed circumstances. The applicant is not proposing any additional new sites.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is February 27, 2012. Rebuttal comments in response to material submitted during the foregoing period may be submitted during the subsequent 15-day period to March 13, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. FOR FURTHER INFORMATION CONTACT Christopher Kemp at Christopher.Kemp@trade.gov or (202) 482-0862.

Dated: December 23, 2011.
Elizabeth Whiteman,
Acting Executive Secretary.

[FR Doc. 2011-33486 Filed 12-28-11; 8:45 am]

BILLING CODE 3510-DS-P